SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes new information collections, revisions to OMB-approved information collections and extensions (no change) of OMB-approved information collections.

SSA is soliciting comments on the accuracy of the Agency's burden estimate; the need for the information; its practical utility; ways to enhance its quality, utility and clarity; and how to minimize the burden on respondents, including the use of automated collection techniques or other forms of information technology. Mail, e-mail or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Report to United States Social Security Administration by Person Receiving Benefits for a Child or for an Adult Unable to Handle Funds/Report to the United States Social Security Administration—0960-0049. SSA needs the information on Forms SSA-7161-OCR-SM and SSA-7162-OCR-SM to: (1) Determine continuing entitlement to Social Security benefits: (2) correct benefit amounts for beneficiaries outside the United States: and (3) monitor the performance of representative payees outside the United States. The respondents are individuals living outside the United States who are receiving benefits on their own (or for someone else) under Title II of the Social Security Act.

Type of Request: Extension of an OMB-approved information collection.

Form number | Number of respondents | Frequency of response | Average burden per response (minutes) | Estimated annual burden (hours)
SSA-7161-OCR-SM | 28,461 | 1 | 15 | 7,115
SSA-7162-OCR-SM | 247,136 | 1 | 5 | 20,595
Totals | 275,597 |  |  | 27,710

2. Questionnaire About Employment or Self-Employment Outside the United States—20 CFR 404.401(b)(1), 404.415 & 404.417—0960-0050. SSA uses Form SSA-7163 to determine: (1) Whether work performed by beneficiaries outside the United States is cause for deductions from their monthly benefits: (2) which of two work tests (foreign or regular test) is applicable; and (3) the number of months, if any, for SSA-imposed deductions. Respondents are beneficiaries living and working outside the United States.

Type of Request: Revision of an OMB-approved information collection.

Number of Respondents: 20,000.

Frequency of Response: 1.

Average Burden Per Response: 12 minutes.

Estimated Annual Burden: 4,000 hours.

3. Petition to Obtain Approval of a Fee for Representing a Claimant before the Social Security Administration—20 CFR 404.1720, 404.1725, 416.1520 & 416.1525—0960-0104. Representatives use Form SSA-1560 to charge a fee for representing a claimant in proceedings before SSA. A representative must file either a fee petition or fee agreement with SSA. If the representative files a fee petition (Form SSA-1560) to obtain approval of a fee, SSA reviews the information to determine a reasonable fee for the representative's services. Respondents are attorneys and non-attorneys who represent claimants for Social Security benefits.

Type of Request: Revision of an OMB-approved information collection.

Number of Respondents: 34,624.

Frequency of Response: 1.

Average Burden Per Response: 30 minutes.

Estimated Annual Burden: 17,312 hours.

4. Annual Earnings Test Direct Mail Follow-Up Program Notices—20 CFR 404.452-404.455—0960-0369. The Mid-Year Mailer ensures Social Security payments are correct. Beneficiaries under full retirement age (FRA) use Forms SSA-L9778, SSA-L9779, and SSA-L9781 to update their current year estimate and their estimate for the following year. Beneficiaries use Mid-Year Mailer Forms SSA-L9784 and SSA-L9785 to request earnings estimates in the year of FRA for the period prior to the month of FRA. Beneficiaries will use new Form SSA-L9790 to report earnings information at the end of the year. The respondents are working Retirement Survivors Insurance beneficiaries with earnings over the exempt amount.

Type of Request: Revision of an OMB-approved information collection.

Number of Respondents: 460,000.

Frequency of Response: 1.

Average Burden Per Response: 10 minutes.

Estimated Annual Burden: 76,667 hours.

5. Electronic Benefit Verification Information (BEVE)—20 CFR 401.40—0960-0595. The electronic proof of income (POI) verification Internet service, BEVE, provides beneficiaries the convenience of requesting a proof of income statement through the Internet. Beneficiaries often require a POI to obtain housing, food stamps, or other public services. SSA uses the information BEVE collects to provide the POI to the beneficiary, after verifying the requestor's identity. The respondents are Social Security Title II, Title XVI, and Medicare beneficiaries.

Type of Request: Extension of an OMB-approved information collection.

Number of Respondents: 314,974.

Frequency of Response: 1.

Average Burden Per Response: 5 minutes.

Estimated Annual Burden: 26,248 hours.

6. Application for Survivors Benefits—20 CFR 404.611(a) and (c)—0960-0062. Surviving family members of armed services personnel can file for Social Security and Veterans' benefits at SSA or the Veterans Administration (VA). If applicants go to the VA first, they complete Form SSA-24, the Application for Survivor's Benefits. The VA then forwards Form SSA-24 to SSA for processing. If applicants previously filed for benefits at SSA, the Agency disregards this form. The respondents are survivors of deceased armed services personnel who are applying for benefits at the VA.

Type of Request: Extension of an OMB-approved information collection.

Number of Respondents: 3,200.

Frequency of Response: 1.

Average Burden Per Response: 15 minutes.

Estimated Annual Burden: 800 hours.

7. Quarterly Statistical Report on Recipients and Payments under State-Administered Assistance Programs for Aged, Blind and Disabled (Individuals and Couples) Recipients—20 CFR 416.2010, 20 CFR 416.2098—0960-0130. States with agreements with SSA under the State supplementation provisions of the Social Security Act must provide statistical data to SSA. State Disability Determination Services (DDS) inform SSA of expenditures and caseloads of State-administered supplements under the Supplemental Security Income program. SSA needs the data from this report to: (1) Supplement the information it already has about federally-administered programs; (2) more fully explain the effect of the public income support programs on the needy, aged, blind, and disabled; and (3) monitor State compliance with the mandatory pass-along provision. States and other Federal agencies use data from this report as well for various purposes. The respondents are State DDSs.

Type of Request: Extension of an OMB-approved information collection.

Number of Respondents: 31.

Frequency of Response: 4.

Average Burden Per Response: 60 minutes.

Estimated Annual Burden: 124 hours.

8. Employee Work Activity Questionnaire—20 CFR 404.1574, 404.1592—0960-0483. Social Security disability claimants qualify for benefits when a verified physical or mental impairment prevents them from working. If disability claimants attempt to return to work after receiving disability benefits but are unable to continue working, they submit Form SSA-3033, the Employee Work Activity Questionnaire, so SSA can evaluate the work attempt. SSA also uses this form to evaluate unsuccessful subsidy work. Ultimately, SSA uses the form to determine applicants' continuing eligibility for disability benefits. The respondents are employers of Social Security disability beneficiaries who unsuccessfully attempted to return to work.

Type of Request: Extension of an OMB approved information collection.

Number of Respondents: 15,000.

Frequency of Response: 1.

Average Burden Per Response: 15 minutes.

Estimated Annual Burden: 3,750 hours.

9. Medical Permit Parking Application—41 CFR 101-20.104-2—0960-0624. SSA employees and contractors with a qualifying medical condition who park at SSA-owned and -leased facilities may receive a medical parking permit. SSA uses three forms as part of this program: SSA-3192, the Physician's Report (which the applicant's physician completes to verify the medical condition); Form SSA-3193, the Application and Statement (which the person seeking the permit completes when first applying for the medical parking space); and Form SSA-3194, the Renewal Certification (which medical parking permit holders complete to verify their continued need for the permit). The respondents are SSA employees and contractors seeking medical parking permits and their physicians. Note: Because SSA employees are federal workers and are PRA-exempt, the burden below is only for SSA contractors and physicians (of both SSA employees and contractors).

Type of Request: Revision to an OMB-approved information collection.

| Number of respondents | Frequency of response | Average burden per response (minutes) | Estimated annual burden (hours)
SSA-3192 | 75 | 1 | 90 | 113
SSA-3193 | 75 | 1 | 30 | 38
SSA-3194 | 10 | 1 | 5 | 1
Totals | 160 |  |  | 152

10. Authorization to Obtain Earnings Data from the Social Security Administration—0960-0602. A wage earner or an organization may request detailed earnings information from SSA. SSA collects the information on the SSA-581 to identify the earnings record, verify authorized access to the earnings record, and produce an itemized statement for release to the proper party. The respondents are various private/public organizations/agencies needing detailed earnings information.

Type of Request: Revision of an OMB-approved information collection.

Number of Respondents: 33,000.

Frequency of Response: 1.

Average Burden Per Response: 2 minutes.

Estimated Annual Burden: 1,100 hours.

11. Statement Regarding the Inferred Death of an Individual by Reason of Continued and Unexplained Absence—20 CFR 404.720 & 404.721—0960-0002. Section 202(d)-(i) of the Social Security Act provides for the payment of various monthly survivor benefits and a lump sum death payment to certain survivors upon the death of an individual who dies fully or currently insured. If a person has been absent from his or her residence and has not been heard from for at least 7 years, SSA will presume he or she is deceased. SSA collects information on Form SSA-723-F4 to determine if SSA may presume a missing wage earner is deceased and, if so, to establish a date of presumed death. The respondents are persons having knowledge about the disappearance of a wage earner.

Type of Request: Extension of an OMB-approved information collection.

Number of Respondents: 3,000.

Frequency of Response: 1.

Average Burden Per Response: 30 minutes.

Estimated Annual Burden: 1,500 hours.

12. Railroad Employment Questionnaire—20 CFR 404.1401, 404.1406-404.1408—0960-0078. SSA uses the data on the SSA-671 to secure sufficient information to effect the required coordination with the Railroad Retirement Board for Social Security claims processing. SSA obtains data whenever claimants give indications of employment in the railroad industry. The respondents are applicants for Social Security benefits employed by a railroad or dependents of railroad workers.

Type of Request: Extension of an OMB-approved information collection.

Number of Respondents: 125,000.

Frequency of Response: 1.

Average Burden Per Response: 5 minutes.

Estimated Annual Burden: 10,417 hours.

13. Government Pension Questionnaire—20 CFR 404.408a—0960-0160. The Social Security Act and regulations provide an individual receiving spousal benefits and concurrently receiving a Government pension based on his or her own earnings not covered by Social Security may have the amount of the Social Security benefit reduced by two-thirds the amount of the Government pension. SSA uses the information on the SSA-3885 to determine whether the individual's Social Security benefit is subject to reduction, the amount of the reduction, the effective date of the reduction, and whether one of the exceptions in 20 CFR 404.408a applies. The respondents are individuals receiving spousal benefits and a Government pension.

Type of Request: Extension of an OMB-approved information collection.

Number of Respondents: 30,000.

Frequency of Response: 1.

Average Burden Per Response: 12.5 minutes.

Estimated Annual Burden: 6,250 hours.

14. Teacher Questionnaire and Request for Administrative Information—20 CFR 416.1103(f)—0960-0646. SSA must consider all relevant evidence when determining a child's disability under Title XVI of the Social Security Act. When determining the effects of a child's (or other individual's) impairment(s), SSA must obtain information about the child's functioning. Using Forms SSA-5665 and SSA-5666, SSA obtains formal testing results, teacher reports, therapy progress notes, individualized education program information and other records of a child's educational aptitude and achievement. The respondents are parents, teachers and other education personnel.

Type of Request: Extension of an OMB-approved information collection.

Form number | Number of respondents | Frequency of response | Average burden per response (minutes) | Total annual burden (hours)
SSA-5665-BK | 618,000 | 1 | 20 | 206,000
SSA-5666 | 615,000 | 1 | 15 | 153,750
Totals | 1,233,000 |  |  | 359,750

SSA has made a correction to this Notice. Previously we inadvertently published the burden information for only one of the forms. We are now including a chart to show the information for both forms.

15. Statement of Income and Resources—20 CFR 416.207, 146.301—416.310, 416.704, and 416.708—0960-0124. SSA collects information about income and resources on form SSA-8010-BK in Supplemental Security Income (SSI) claims and redeterminations. SSA uses the information to make initial or continuing eligibility determinations for SSI claimants/recipients who are subject to deeming. The respondents are persons whose income and resources may be deemed (considered available) to applicants or beneficiaries of SSI benefits.

Type of Request: Extension of an OMB-approved information collection.

Number of Respondents: 341,000.

Frequency of Response: 1.

Average Burden Per Response: 26 minutes.

Estimated Annual Burden: 147,767 hours.

16. Medicare Part D Subsidies Regulations—20 CFR Part 418—0960-0702. The Medicare Prescription Drug Improvement, and Modernization Act of 2003 (MMA) established the Medicare Part D program for voluntary prescription drug coverage of premium, deductible, and co-payment costs for certain low-income individuals. The MMA also mandated the provision of subsidies for those individuals who qualify for the program and who meet eligibility criteria for help with premium, deductible, and/or co-payment costs.

This law requires SSA to make eligibility determinations and to provide a process for appealing SSA's determinations. Regulation sections 418.3625(c), 418.3645, 418.3665(a), and 418.3670 contain public reporting requirements, listed below. Respondents are applicants for the Medicare Part D subsidies who request an administrative review hearing.

Type of Request: Revision to an existing OMB-approved information collection.

Section | Annual number of respondents | Frequency of response | Average burden per response (minutes) | Estimated annual burden (hours)
§ 418.3625(c) One may request in writing a change in date/time for an administrative review hearing | 2,500 | 1 | 5 | 208
§ 418.3645 One may request in writing a different person to conduct the administrative hearing if they suspect bias | 10 | 1 | 20 | 3
§ 418.3665(a) One may withdraw their request in writing for an administrative review hearing | 1,000 | 1 | 5 | 83
§ 418.3670 Applicants may ask SSA to vacate their previous request to dismiss an administrative review hearing | 5 | 1 | 10 | 1
Total | 3,515 |  |  | 295

Dated: May 22, 2008.
Elizabeth A. Davidson,
Reports Clearance Officer, Social Security Administration.

[FR Doc. E8-11898 Filed 5-27-08; 8:45 am]

BILLING CODE 4191-02-P